DEPARTMENT OF TRANSPORTATION

Coast Guard

33 CFR Part 117

[CGD07-01-073]

Drawbridge Operation Regulations; State Road 84 Bridge, South Fork of the New River, Mile 4.4, Fort Lauderdale, Broward County, FL

AGENCY: Coast Guard, DOT.

ACTION: Notice of temporary deviation from regulations.

SUMMARY: The Commander, Seventh Coast Guard District, has approved a temporary deviation from the regulations governing the operation of the State Road 84 bridge across the South Fork of the New River, Fort Lauderdale, Florida. This deviation allows the drawbridge owner or operator to not open the bridge for a period of time. This temporary deviation is required to allow the bridge owner to safely complete repairs of the bridge.

DATES: This deviation is effective from August 2, 2001 to August 20, 2001.

FOR FURTHER INFORMATION CONTACT: Mr. Barry Dragon, Chief, Operations Section, Seventh Coast Guard District, Bridge Section at (305) 415-6743.

SUPPLEMENTARY INFORMATION: The State Road 84 bridge across the South Fork of the New River at Fort Lauderdale, Broward County, Florida is a single leaf bridge with a vertical clearance of 21 feet above mean high water (MHW) measured at the fenders in the closed position with a horizontal clearance of 40 feet. On June 20, 2001, the Florida Department of Transportation, the drawbridge owner, requested a deviation from the current operating regulation in 33 CFR 117.315(b) which requires the draw of the State Road 84 bridge, mile 4.4 at Fort Lauderdale, to open on signal if at least 24 hours notice is given. This temporary deviation will allow the bridge owner to complete necessary repairs to the drawbridge in a critical time sensitive manner.

The District Commander has granted a temporary deviation from the operating requirements listed in 33 CFR 117.315(b) for the purpose of repair completion of the drawbridge. Under this deviation, the State Road 84 bridge need not open from August 2, 2001 through August 9, 2001. Additionally, from August 10 to August 20, 2001, the bridge need not open except in the event of heavy weather with an opening schedule broadcast locally during this period.

Dated: July 9, 2001.
Greg E. Shapley,
Chief, Bridge Administration, Seventh Coast Guard District.

[FR Doc. 01-17997 Filed 7-18-01; 8:45 am]

BILLING CODE 4910-15-P